DEPARTMENT OF ENERGY

Federal Energy Regulatory Commission

Combined Notice of Filings #1

Take notice that the Commission received the following exempt wholesale generator filings:

Docket Numbers: EG12-9-000.

Applicants: Fire Island Wind, LLC.

Description: Self-Certification of EWG Status of Fire Island Wind, LLC.

Filed Date: 11/03/2011.

Accession Number: 20111103-5009.

Comment Date: 5 p.m. ET on 11/24/2011.

Take notice that the Commission received the following electric rate filings:

Docket Numbers: ER11-3420-000.

Applicants: Gridway Energy Corp.

Description: Refund Report of Gridway Energy Corp.

Filed Date: 08/22/2011.

Accession Number: 20110822-5234.

Comment Date: 5 p.m. ET on 11/17/2011.

Docket Numbers: ER11-3420-000.

Applicants: Gridway Energy Corp.

Description: Supplemental Refund Report to be effective 9/30/2011.

Filed Date: 09/30/2011.

Accession Number: 20110930-5034.

Comment Date: 5 p.m. ET on 11/17/2011.

Docket Numbers: ER11-3551-000; ER11-3822-000; ER11-3553-000; ER11-3554-000; ER11-3824-000.

Applicants: Glacial Energy of New York, Glacial Energy of New England, Inc., Glacial Energy of New Jersey, Inc., Glacial Energy of Illinois, Inc. Glacial Energy of California, Inc.

Description: Refund Report of Glacial Energy of New York, et al.

Filed Date: 10/05/2011.

Accession Number: 20111005-5116.

Comment Date: 5 p.m. ET on 11/17/2011.

Docket Numbers: ER11-3614-005.

Applicants: Glacial Energy Holdings.

Description: Substitute Market-Based Rate Filing to be effective 9/26/2011.

Filed Date: 11/03/2011.

Accession Number: 20111103-5000.

Comment Date: 5 p.m. ET on 11/24/2011.

Docket Numbers: ER11-4197-000.

Applicants: Michigan Electric Transmission Company, LLC, Midwest Independent Transmission System Operator, Inc.

Description: METC-Lowell Refund Report to be effective N/A.

Filed Date: 11/03/2011.

Accession Number: 20111103-5060.

Comment Date: 5 p.m. ET on 11/24/2011.

Docket Numbers: ER11-4531-001.

Applicants: Reliable Power, LLC.

Description: Compliance to baseline Refile to be effective 11/3/2011.

Filed Date: 11/03/2011.

Accession Number: 20111103-5044.

Comment Date: 5 p.m. ET on 11/24/2011.

Docket Numbers: ER11-4613-001.

Applicants: DB Energy Trading LLC.

Description: Amendment to September 23rd Baseline Filing to be effective 11/3/2011.

Filed Date: 11/03/2011.

Accession Number: 20111103-5057.

Comment Date: 5 p.m. ET on 11/24/2011.

Docket Numbers: ER11-4691-001.

Applicants: Icetec.com.

Description: Icetec.com Corrected Baseline ETariff to be effective 9/30/2011.

Filed Date: 11/03/2011.

Accession Number: 20111103-5062.

Comment Date: 5 p.m. ET on 11/24/2011.

Docket Numbers: ER12-331-000.

Applicants: New York Independent System Operator, Inc., Niagara Mohawk Power Corporation.

Description: Service Agreement No. 1742 between National Grid, NYPA, PEP, and MI to be effective 1/1/2012.

Filed Date: 11/02/2011.

Accession Number: 20111102-5119.

Comment Date: 5 p.m. ET on 11/23/2011.

Docket Numbers: ER12-332-000.

Applicants: California Independent System Operator Corporation.

Description: 2011-11-02 CAISO MSSAA with NCPA to be effective 1/1/2012.

Filed Date: 11/02/2011.

Accession Number: 20111102-5120.

Comment Date: 5 p.m. ET on 11/23/2011.

Docket Numbers: ER12-332-000.

Applicants: California Independent System Operator Corporation.

Description: 2011-11-02 CAISO MSSAA with NCPA to be effective 1/1/2012.

Filed Date: 11/02/2011.

Accession Number: 20111102-5121.

Comment Date: 5 p.m. ET on 11/23/2011.

Docket Numbers: ER12-333-000.

Applicants: New York Independent System Operator, Inc., Niagara Mohawk Power Corporation.

Description: Service Agreement No. 1743 between National Grid, NYPA, PEP, and MI to be effective 1/1/2012.

Filed Date: 11/02/2011.

Accession Number: 20111102-5122.

Comment Date: 5 p.m. ET on 11/23/2011.

Docket Numbers: ER12-334-000.

Applicants: Duke Energy Kentucky, Inc., Duke Energy Ohio, Inc., Midwest Independent Transmission System Operator, Inc.

Description: 11-02-11 Schedule 38 and Attachment GG to be effective 1/1/2012.

Filed Date: 11/02/2011.

Accession Number: 20111102-5128.

Comment Date: 5 p.m. ET on 11/23/2011.

Docket Numbers: ER12-335-000.

Applicants: Black Hills Power, Inc.

Description: Revised BH Power, Inc., JOATT Schedule 2 to be effective 1/1/2012.

Filed Date: 11/02/2011.

Accession Number: 20111102-5130.

Comment Date: 5 p.m. ET on 11/23/2011.

Docket Numbers: ER12-336-000.

Applicants: PacifiCorp.

Description: UAMPS ARTSOA to be effective 1/2/2012.

Filed Date: 11/02/2011.

Accession Number: 20111102-5131.

Comment Date: 5 p.m. ET on 11/23/2011.

Docket Numbers: ER12-337-000.

Applicants: Mississippi Power Company.

Description: 2011 MRA Rate Case to be effective 1/1/2012.

Filed Date: 11/02/2011.

Accession Number: 20111102-5155.

Comment Date: 5 p.m. ET on 11/23/2011.

Docket Numbers: ER12-338-000.

Applicants: Minco Wind Interconnection Services, LLC.

Description: Minco Wind Interconnection Services, LLC Shared Facilities Agreement to be effective 11/3/2011.

Filed Date: 11/02/2011.

Accession Number: 20111102-5159.

Comment Date: 5 p.m. ET on 11/23/2011.

Docket Numbers: ER12-339-000.

Applicants: Driftwood LLC.

Description: Cancellation of Tariff ID Fifty to be effective 11/4/2011.

Filed Date: 11/03/2011.

Accession Number: 20111103-5002.

Comment Date: 5 p.m. ET on 11/24/2011.

Docket Numbers: ER12-340-000.

Applicants: Duke Energy Carolinas, LLC.

Description: Concord PPA Filing—RS 327 to be effective 1/1/2012.

Filed Date: 11/03/2011.

Accession Number: 20111103-5023.

Comment Date: 5 p.m. ET on 11/24/2011.

Docket Numbers: ER12-341-000.

Applicants: Duke Energy Carolinas, LLC.

Description: Kings Mountain PPA Filing—RS 331 to be effective 1/1/2012.

Filed Date: 11/03/2011.

Accession Number: 20111103-5025.

Comment Date: 5 p.m. ET on 11/24/2011.

Docket Numbers: ER12-342-000.

Applicants: Otter Tail Power Company.

Description: Request for Approval of Transmission Rate Incentives of Otter Tail Power Company.

Filed Date: 11/02/2011.

Accession Number: 20111102-5170.

Comment Date: 5 p.m. ET on 11/23/2011.

Docket Numbers: ER12-343-000.

Applicants: PJM Interconnection, LLC.

Description: Queue No. X1-071; Original Service Agreement No. 3092 to be effective 10/6/2011.

Filed Date: 11/03/2011.

Accession Number: 20111103-5061.

Comment Date: 5 p.m. ET on 11/24/2011.

Docket Numbers: ER12-344-000.

Applicants: ITC Midwest LLC.

Description: Notice of Cancellation to be effective 9/29/2011.

Filed Date: 11/03/2011.

Accession Number: 20111103-5064.

Comment Date: 5 p.m. ET on 11/24/2011.

Docket Numbers: ER12-345-000.

Applicants: ITC Midwest LLC.

Description: Notice of Cancellation to be effective 11/4/2011.

Filed Date: 11/03/2011.

Accession Number: 20111103-5065.

Comment Date: 5 p.m. ET on 11/24/2011.

Docket Numbers: ER12-346-000.

Applicants: Global Energy, LLC.

Description: Baseline Refiled to be effective 11/3/2011.

Filed Date: 11/03/2011.

Accession Number: 20111103-5066.

Comment Date: 5 p.m. ET on 11/24/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2011.
Nathaniel J. Davis, Sr.,
Deputy Secretary.

[FR Doc. 2011-29268 Filed 11-10-11; 8:45 am]

BILLING CODE 6717-01-P